SMALL BUSINESS ADMINISTRATION

Establishment of the Manufacturing in America Advisory Committee (MAAC)

AGENCY: U.S. Small Business Administration (SBA).

ACTION: Notice of intent to establish an advisory committee.

SUMMARY: The SBA announces its intent to establish the Manufacturing in America Advisory Committee. The Administrator has determined that establishing the Manufacturing in America Advisory Committee is necessary and in the public interest.

DATES: Manufacturing in America Advisory Committee will operate for two years after the filing date of its charter that will meet the 15 day requirements of the Federal Register Notice, unless otherwise renewed in accordance with the Federal Advisory Committee Act.

FOR FURTHER INFORMATION CONTACT: Andrienne Johnson, Committee Management Officer (CMO), Office of the Administrator, (202) 205-6685 or FACA@sba.gov.

SUPPLEMENTARY INFORMATION: his notice announces the establishment of the Manufacturing in America Advisory Committee as a Federal Advisory Committee in accordance with the Federal Advisory Committee Act (Pub. L. 92-463, 5 U.S.C. 10 et seq.) to provide strategic guidance, advice, and recommendations to the U.S. government and relevant stakeholders on matters related to growth, supply chain resilience, and innovation of small manufacturing businesses across the country. The Committee will act as the collaborative body to ensure the sector's needs, challenges, and opportunities are addressed. The Committee's mission will focus on supporting economic growth, job creation, onshoring of critical manufacturing capabilities, and global competitiveness. The Federal Register Notice will be published 15 days prior to filing the charter with Congress. This notice is provided in accordance with the Federal Advisory Committee Act.

Dated: June 3, 2025.
Andrienne Johnson,
Committee Management Officer.

[FR Doc. 2025-10370 Filed 6-6-25; 8:45 am]

BILLING CODE 8026-09-P